NUCLEAR REGULATORY COMMISSION

[Docket No. 50-336]

Dominion Nuclear Connecticut, Inc; Notice of Withdrawal of Application for Amendment to Renewed Facility Operating License No. DPR-65 Millstone Power Station, Unit No. 2

The U.S. Nuclear Regulatory Commission (the Commission) has granted the request of Dominion Nuclear Connecticut, Inc., (the licensee) to withdraw its February 20, 2007, application for proposed amendment to Renewed Facility Operating License No. DPR-65 for the Millstone Power Station, Unit No. 2 (MPS2), located in New London County, Connecticut.

The proposed amendment would have revised the MPS2 Technical Specifications to eliminate Surveillance Requirement 4.5.2.e, which verifies charging pump flowrate. The Commission had previously issued a Notice of Consideration of Issuance of Amendment published in the Federal Register on December 4, 2007 (72 FR 68209). However, by letter dated April 17, 2008, the licensee withdrew the proposed change. For further details with respect to this action, see the application for amendment dated February 20, 2007, as supplemented by letter dated March 6, 2008, and the licensee's letter dated April 17, 2008, which withdrew the application for a license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 28th day of April, 2008.
For the Nuclear Regulatory Commission.
John D. Hughey,
Project Manager, Plant Licensing Branch I-2, Division of Operating Reactor Licensing, Office of Nuclear Reactor Regulation.

[FR Doc. E8-9936 Filed 5-5-08; 8:45 am]

BILLING CODE 7590-01-P